DEPARTMENT OF THE TREASURY

Internal Revenue Service

Open Meeting of the Area 1 Taxpayer Advocacy Panel (Including the States of New York, Connecticut, Massachusetts, Rhode Island, New Hampshire, Vermont and Maine)

AGENCY: Internal Revenue Service (IRS) Treasury.

ACTION: Notice.

SUMMARY: An open meeting of the Area 1 Taxpayer Advocacy Panel will be conducted in Boston, Massachusetts. The Taxpayer Advocacy Panel is soliciting public comments, ideas and suggestions on improving customer service at the Internal Revenue Service.

DATES: The meeting will be held Friday, June 17 and Saturday, June 18, 2005.

FOR FURTHER INFORMATION CONTACT: Marisa Knispel at 1-888-912-1227 (toll-free), or 718-488-3557 (non toll-free).

SUPPLEMENTARY INFORMATION: An open meeting of the Area 1 Taxpayer Advocacy Panel will be held Friday, June 17, 2005 from 9 a.m. EDT to 5 p.m. EDT and Saturday, June 18, 2005 from 8 a.m. EDT to 12 p.m. EDT in Boston, Massachusetts at the IRS Training Center in the Copley Plaza Executive Offices located at 4 Copley Place, 2nd floor, Boston, MA 02216. Individual comments are welcomed and will be limited to 5 minutes per person. For more information or to confirm attendance, notification of intent to attend must be made with Marisa Knispel. Mrs. Knispel may be reached at 1-888-912-1227 or 718-488-3557. If you would like to have the TAP consider a written statement, please write to Marisa Knispel, TAP Office, 10 MetroTech Center, 625 Fulton Street, Brooklyn, NY 11201, or, you may post comments to the Web site: http://www.improveirs.org.

The agenda will include: Various IRS issues.

Dated: May 20, 2005.
Maryclare Whitehead,
Acting Director, Taxpayer Advocacy Panel.

[FR Doc. E5-2650 Filed 5-24-05; 8:45 am]

BILLING CODE 4830-01-P